DEPARTMENT OF ENERGY

Federal Energy Regulatory Commission

[Docket No. CP03-350-000]

Georgia Strait Crossing Pipeline LP; Notice of Petition for a Declaratory Order

September 12, 2003.

Take notice that on September 8, 2003, Georgia Strait Crossing Pipeline LP (GSX-US), filed in Docket No. CP03-350-000, pursuant to Rule 207(a)(2) of the Rules of Practice and Procedure of the Federal Energy Regulatory Commission (Commission), a petition for a declaratory order. In its petition, GSX-US requests the Commission to find that, for the pipeline project certificated by the Commission in Docket No. CP01-176 et al., GSX-US is entitled to a waiver of the related certification requirements under section 401 of the Clean Water Act and the Coastal Zone Management Act because the Washington State Department of Ecology has exceeded the federal statutory time-limits for acting on GSX-US's requests for such certifications.

Any person desiring to intervene or to protest this filing should file with the Federal Energy Regulatory Commission, 888 First Street NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date and, to the extent applicable, must be served on the applicant and on any other person designated on the official service list. This filing is available for review at the Commission or may be viewed on the Commission's Web site at http://www.ferc.gov , using the “e-Library” link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Comment Date: September 29, 2003.

Magalie R. Salas,
Secretary.

[FR Doc. 03-23804 Filed 9-17-03; 8:45 am]

BILLING CODE 6717-01-P